FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 24, 2011.

A. Federal Reserve Bank of Chicago (Colette A. Fried, Assistant Vice President) 230 South LaSalle Street, Chicago, Illinois 60690-1414:

1. Jennifer Wells Steans, Evanston, Illinois, Heather Steans and Robin Steans, Chicago, Illinois, as trustees of The Steans 1996 Family Trust; The Steans 1996 Family Trust, Chicago, Illinois; Trilogy Investment Group, LLC, Chicago, Illinois; Adeline Steans Morrison, Lake Forest, Illinois; Helen Harrison Morrison, Washington, D.C.; Lois Langdon Morrison, Chicago, Illinois; Justin William Daab, Chicago, Illinois; Margot Morrison Brinley, Charlotte, North Carolina; Charles Edward Brinley, Charlotte, North Carolina, Amy Morrison Heinrich, Grayslake, Illinois; Foursquare Investments, LLC, Chicago, Illinois; Thomas Benton Hunter IV, Lake Forest, Illinois; Willard Morrison Hunter, Lake Bluff, Illinois, individually and as custodian for Willard K. Hunter; Benjamin James Hunter, Chicago, Illinois; Peter Morrison Hunter, New York, New York; Tscharner de Graffenried Hunter, New York, New York; and Thomas Ruffin Hunter, Lake Forest, Illinois, to retain and acquire shares of Taylor Capital Group, Inc., Rosemont, Illinois, and indirectly Cole Taylor Bank, Chicago, Illinois, and thereby join the existing Steans Family Control Group.

Board of Governors of the Federal Reserve System, February 4, 2011.
Robert deV. Frierson,
Deputy Secretary of the Board.

[FR Doc. 2011-2864 Filed 2-8-11; 8:45 am]

BILLING CODE 6210-01-P